DEPARTMENT OF COMMERCE

Foreign-Trade Zones Board

[Docket 60-2010]

Foreign-Trade Zone 22-Chicago, IL, Application for Subzone Baxter Healthcare Corporation (Pharmaceutical and Biological Product Manufacturing), Round Lake, IL

An application has been submitted to the Foreign-Trade Zones Board (the Board) by the Illinois International Port District, grantee of FTZ 22, requesting special-purpose subzone status for the pharmaceutical and biological intravenous (I.V.) product manufacturing facility of Baxter Healthcare Corporation (Baxter), located near Round Lake (Lake County), Illinois. The application was submitted pursuant to the provisions of the Foreign-Trade Zones Act, as amended (19 U.S.C. 81a-81u), and the regulations of the Board (15 CFR part 400). It was formally filed on October 15, 2010.

The Baxter facility (500 manufacturing employees, approximately 154 acres/1,427,047 square feet (303,831 manufacturing square feet)) is located at 25212 W. Illinois Route 120, near Round Lake, Illinois. Activity to be conducted under FTZ procedures would include manufacturing, warehousing and distribution of pre-mixed, filled pharmaceutical and biological I.V. units (up to 70 million units annually) for export and the domestic market. Baxter is requesting to use zone procedures for the foreign-origin laminated film used to make the I.V. bags (HTSUS 3920.10, duty rate: 4.2%), representing some 7.5 percent of the finished product's value.

FTZ procedures could exempt Baxter from customs duty payments on the foreign laminated film used in export production (up to some 7 percent of annual shipments). On its domestic sales, Baxter would be able to choose the duty rate during customs entry procedures that applies to the finished pharmaceutical and biological I.V. products (duty-free) for the foreign input noted above. FTZ designation may further allow Baxter to realize logistical benefits through the use of weekly customs entry and direct delivery procedures. The request indicates that the savings from FTZ procedures would help improve the plant's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is December 27, 2010. Rebuttal comments in response to material submitted during the foregoing period may be submitted during the subsequent 15-day period to January 10, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane.Finver@trade.gov or (202) 482-1367.

Dated: October 15, 2010.
Andrew McGilvray,
Executive Secretary.

[FR Doc. 2010-26925 Filed 10-22-10; 8:45 am]

BILLING CODE 3510-DS-P